DEPARTMENT OF AGRICULTURE

Animal and Plant Health Inspection Service

[Docket No. 03-101-2]

Environmental Impact Statement; Petition for Deregulation of Genetically Engineered Glyphosate-Tolerant Creeping Bentgrass

AGENCY: Animal and Plant Health Inspection Service, USDA.

ACTION: Notice of intent to prepare an environmental impact statement and proposed scope of study.

SUMMARY: We are advising the public that the Animal and Plant Health Inspection Service intends to prepare an environmental impact statement relative to its consideration of a petition received from Monsanto Company and The Scotts Company for a determination of nonregulated status for a glyphosate-tolerant creeping bentgrass (Agrostis stolonifera). This notice identifies potentially significant issues, as well as alternatives, that the Agency proposes to examine in the environmental impact statement and requests public comment.

DATES: We will consider all comments that we receive on or before October 25, 2004.

ADDRESSES: You may submit comments by any of the following methods:

• Postal Mail/Commercial Delivery: Please send four copies of your comment (an original and three copies) to Docket No. 03-101-2, Regulatory Analysis and Development, PPD, APHIS, Station 3C71, 4700 River Road Unit 118, Riverdale, MD 20737-1238. Please state that your comment refers to Docket No. 03-101-2.

• E-mail: Address your comment to regulations@aphis.usda.gov. Your comment must be contained in the body of your message; do not send attached files. Please include your name and address in your message and “Docket No. 03-101-2” on the subject line.

• Agency Web site: Go to http://www.aphis.usda.gov/ppd/rad/cominst.html for a form you can use to submit an e-mail comment through the APHIS Web site.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: Dr. Susan M. Koehler, BRS, APHIS, 4700 River Road Unit 147, Riverdale, MD 20737-1238; (301) 734-4886.

SUPPLEMENTARY INFORMATION: The Animal and Plant Health Inspection Service (APHIS) regulates the introduction (movement into the United States or interstate, or release into the environment) of genetically engineered organisms that may present a plant pest risk under 7 CFR part 340, “Introduction of Organisms and Products Altered or Produced Through Genetic Engineering Which Are Plant Pests or Which There Is Reason To Believe Are Plant Pests.” The regulations in § 340.6(a) provide that any person may submit a petition to APHIS seeking a determination that an article should not be regulated under 7 CFR part 340.

On April 14, 2003, APHIS received a petition (APHIS Petition No. 03-104-01p) from Monsanto Company (St. Louis, MO) and The Scotts Company (Gervais, OR) (Monsanto/Scotts), requesting deregulation of a creeping bentgrass (Agrostis stolonifera L., synonym A. palustris Huds.) that has been genetically engineered for tolerance to the herbicide glyphosate. The Monsanto/Scotts petition states that the subject creeping bentgrass, designated as event ASR 368, should not be regulated by APHIS because it does not present a plant pest risk.

In a notice published in the Federal Register on January 5, 2004 (69 FR 315-317, Docket No. 03-101-1), APHIS announced the receipt of the Monsanto/Scotts petition and solicited comments on whether the subject creeping bentgrass would present a plant pest risk. (The petition is available on the Internet at http://www.aphis.usda.gov/brs/aphisdocs/03_10401p.pdf.) In that notice, we described: (1) How the subject creeping bentgrass was genetically engineered for tolerance to the herbicide glyphosate, (2) why and how it has been regulated by APHIS under 7 CFR part 340, (3) the regulatory authority and actions taken or pending by the U.S. Environmental Protection Agency that would allow certain glyphosate-containing products to be used on the subject bentgrass during seed production or on golf courses to control weeds, and (4) the regulatory authority and actions taken by the U.S. Food and Drug Administration that would allow feed use of straw and chaff derived from the subject bentgrass. The notice provided a link to APHIS' preliminary risk assessment (available on the Internet at http://www.aphis.usda.gov/brs/aphisdocs/03_10401p_ra.pdf), and also requested information and public comments on issues pertaining to the potential environmental effects of the subject creeping bentgrass from the proposed deregulation, which would allow for unconfined release into the environment of the United States and its territories.

We solicited comments concerning our notice for 60 days ending March 5, 2004. We received a total of 483 comments, from respondents in the following categories: Unaffiliated individuals (166); universities (118); industry (71); golf course superintendents/operators (37); farmers (22); associations (16); State, county, and city officials (11); native plant societies (9); environmental and consumer groups (8); research centers (8); U.S. Government officials (6); nature preserve officials (3); State legislators (2); and a foreign government official (1). The comments may be viewed on the Internet at https://web01.aphis.usda.gov/Bentgrass.nsf.

Approximately 339 commenters expressed support for the Monsanto/Scotts petition, while 134 expressed concern or opposed deregulation for glyphosate-tolerant creeping bentgrass. Among the strongest supporters of the petition were university-based weed scientists and turfgrass specialists, as well as golf course superintendents and operators. Additional support was expressed by industry-affiliated commenters, farmers, associations, and research centers. Opposition to the commercial development of glyphosate-tolerant creeping bentgrass was expressed by commenters associated with native plant societies and the restoration and management of native plant preserves, environmental and consumer groups, and certain Federal, State, and city officials. The unaffiliated individual commenters were nearly evenly split between those supporting and those opposing the petition.

Among the points frequently stressed by supporters of the petition were the usefulness of glyphosate-tolerant creeping bentgrass for selective control of annual bluegrass (Poa annua) in golf courses and the associated reduction in the need for pesticide applications (herbicides, fungicides, and fumigants) to eliminate or manage this and other weed species; the noninvasiveness of bentgrass in cropping systems; the existence of alternative herbicides for control in situations where control is needed; and the noncompetitiveness of interspecific hybrids.

Some commenters opposing the subject petition described the aggressiveness of Agrostis, characterizing Agrostis stolonifera as a major invader of prairie/meadow habitat and riparian areas and a displacer of indigenous flora. A number of these same commenters also expressed concern about the spread of the glyphosate-tolerant transgene and the potential loss of glyphosate for the control of invasive perennial grasses. One commenter described glyphosate as the herbicide of choice for feral creeping bentgrass, and another noted that glyphosate is the means of control for the A. stolonifera occupying tens of thousands of acres of north coastal California grassland, and where it is a weed in wetlands. In nearly identical letters, some respondents opposed to the petition mistakenly identified creeping bentgrass as redtop, which is a different species (Agrostis gigantea) that is characterized as more weedy than creeping bentgrass and can hybridize with it.

In addition to seeking public comments through our January 2004 notice, APHIS asked the Weed Science Society of America (WSSA) to undertake an analysis of the weed management implications associated with the potential deregulation and commercialization of glyphosate-tolerant and of glufosinate-tolerant creeping bentgrass varieties. Their report, “Determination of the Potential Impact from the Release of Glyphosate- and Glufosinate-Resistant Agrostis stolonifera L. in Various Crop and Non-Crop Ecosystems,” is available on the WSSA Web site at http://www.wssa.net/society/bentgrass.pdf. Glufosinate herbicide-tolerant creeping bentgrass was included because APHIS expects it may receive a petition for deregulation of such a product that is currently under development.

Under the provisions of the National Environmental Policy Act of 1969 (NEPA), as amended (42 U.S.C. 4321 et seq.), agencies must examine the potential environmental effects of, as well as alternatives to, proposed major Federal actions. Based on our information and the examination of data associated with the petition, the WSSA report, and public comments submitted in response to our January 2004 notice, we have decided to inform our decisionmaking process in this matter through preparation of an environmental impact statement (EIS), consistent with regulations of the Council on Environmental Quality (CEQ) for implementing the procedural provisions of NEPA (40 CFR parts 1500-1508), the U.S. Department of Agriculture's regulations implementing NEPA (7 CFR part 1b), and APHIS' NEPA Implementing Procedures (7 CFR part 372). An EIS is a detailed written statement of the agency (signed by the responsible official) on Federal actions with the potential to significantly affect the quality of the human environment as required by section 102(2)(c) of NEPA on “(i) the environmental impact of the proposed action, (ii) any adverse environmental effects which cannot be avoided should the proposal be implemented, (iii) alternatives to the proposed action, (iv) the relationship between local short-term uses of man's environment and the maintenance and enhancement of long-term productivity, and (v) any irreversible and irretrievable commitments of resources which would be involved in the proposed action should it be implemented.” This notice identifies the alternatives and potentially significant issues that we propose to study in the EIS. We are inviting public comment on this proposed scope of study to help us further delineate the issues.

We have identified three broad alternatives for study in the EIS:

• Approval of the petition. APHIS would deregulate the genetically engineered glyphosate-tolerant creeping bentgrass (Agrostis stolonifera L.).

• Denial of the petition. APHIS would continue to regulate the genetically engineered glyphosate-tolerant creeping bentgrass.

• Approval of the petition in part. APHIS would partially deregulate introduction (importation, interstate movement, or release into the environment) of the genetically engineered glyphosate-tolerant creeping bentgrass. Such a partial deregulation might be achieved through the placement of restrictions or conditions designed to mitigate any anticipated plant pest effects or adverse environmental effects.

“Significantly,” as used in NEPA, requires consideration of both the context (i.e., the scope and duration) and intensity (i.e., the severity of impact) of the proposed action as described by CEQ's regulations in 40 CFR 1508.27. APHIS regulations at 7 CFR 340.6 require an examination of the plant pest risk potential of the regulated article with respect to its non-genetically engineered counterpart. Familiarity with the impacts associated with the use of the non-genetically engineered counterpart or with the use of plants with traits similar to the trait introduced through genetic engineering has been used in examining the significance of potential environmental impacts resulting from previous decisions to deregulate. It is within the context of these CEQ and APHIS regulations that the following potentially significant environmental issues have been identified for further examination in the EIS process:

• Herbicide resistance, weed management, and vegetation control.

• Compared to non-genetically engineered creeping bentgrass and other herbicide-tolerant grasses, will deregulation of the subject glyphosate-tolerant creeping bentgrass result in its establishment and persistence in situations where it is unwanted, unintended, or unexpected?

• To what extent will deregulation of glyphosate-tolerant creeping bentgrass result in its hybridization and introgression of the herbicide-tolerance trait into related species, and will this result in their establishment and persistence in situations where they are unwanted, unintended, or unexpected?

• Will attempts to manage glyphosate-tolerant creeping bentgrass or its relatives in situations where they are unwanted, unintended, or unexpected have significant adverse impacts on the quality of the human environment, including the ability to restore the land and vegetation to their intended use?

• Will adoption of glyphosate-tolerant creeping bentgrass, coupled with the use of glyphosate products that might be registered for use on this bentgrass, result in the selection of weeds that are tolerant of doses of glyphosate that were previously lethal, or result in a shift to weeds that are more difficult to control? If so, what are the likely weed species, over what timeframe would selection occur, and how likely would the weeds spread to and persist in other locations? What alternatives are available to control them in situations where they are unwanted, and will those alternative control methods have significant adverse impacts on the environment?

• Will adoption of glyphosate-tolerant creeping bentgrass on golf courses, coupled with the expected use of glyphosate products that might be registered to control weeds in this bentgrass, have significant benefits to the environment compared to the growth and weed management of non-glyphosate-tolerant creeping bentgrasses on golf courses?

• Hybridization and introgression. In addition to the potential impacts identified above with respect to weediness and herbicide tolerance or resistance, what other significant impacts could occur to the quality of the human environment as a result of the crossing and subsequent introgression of the glyphosate-tolerance trait from glyphosate-tolerant creeping bentgrass with non-glyphosate-tolerant creeping bentgrass and certain compatible species?

• Threatened and endangered species. Could there be adverse affects on a listed threatened or endangered species or its habitat, as designated under the Endangered Species Act of 1973, as amended, through the spread of glyphosate-tolerant creeping bentgrass or its relatives to areas where they are unwanted, unintended, or unexpected, e.g., riparian areas, wetlands, or grasslands, or through management of vegetation in those situations?

• Precedence. Will deregulation of this genetically engineered species establish a precedent for future actions with potentially significant effects or represent a decision in principle about a future consideration? Examples might include deregulation of other genetically engineered grasses, or other perennial species, particularly those that are highly outcrossing, widespread species that may also reproduce vegetatively, and which can hybridize with many wild (native or naturalized) relatives.

• Cumulative effects. Can this action be said to be related to other past, present, and reasonably foreseeable future actions with individually insignificant but cumulatively potentially significant impacts, including actions that may be taken by other agencies and individuals?

• Impacts on unique geographic areas or significant scientific, cultural, or historical resources. To what extent would deregulation impact unique geographic areas, such as prime farmlands, wetlands, parklands, or ecologically critical areas, or scientific, cultural, or historical resources, e.g., species targeted for conservation?

• Uncertainty. Are there associated with this action possible effects on the quality of the human environment that are highly uncertain or involve unique or unknown risks, including those listed above?

• Mitigation. Can negative environmental impacts of the action be reasonably mitigated, and what is the likelihood that mitigation measures will be successfully implemented? CEQ regulations (40 CFR 1508.20) indicate that mitigation to be considered in the scope of a NEPA document can include actions or decisions that avoid, minimize, reduce, rectify, or compensate for the adverse impacts identified. The EIS will consider the stewardship plan outlined in section VII. E. of the petition, which is designed to minimize inadvertent gene flow as well as to monitor and mitigate the potential development of glyphosate-resistant weeds. The EIS will also consider other actions, e.g., deployment (release) strategies or management practices, including those that may be outside APHIS' jurisdiction, that might mitigate any adverse impacts identified, so as to alert those who may be in a position to implement them.

Comments that provide information relevant to the scope identified above or that identify other potentially significant environmental issues or alternatives that should be examined in the context of the EIS process would be especially helpful. All comments that we received in response to the January 2004 notice will be included as part of this scoping process; there is no need to resubmit those comments. We will fully consider all the comments received in response to the January 2004 notice and this current notice in developing a final scope of study and in preparing the draft EIS. When the draft EIS is completed, we will publish a notice in the Federal Register announcing its availability and inviting the public to comment on it. Following our consideration of the comments received, APHIS will prepare a final EIS; its availability will also be announced in the Federal Register along with a 30-day public comment period, after which the Record of Decision will be issued.

Done in Washington, DC, this 21st day of September 2004.
W. Ron DeHaven,
Administrator, Animal and Plant Health Inspection Service.

[FR Doc. E4-2372 Filed 9-23-04; 8:45 am]

BILLING CODE 3410-34-P